ENVIRONMENTAL PROTECTION AGENCY

40 CFR Part 52

[EPA-R01-OAR-2019-0221; FRL-9997-13-Region 1]

Air Plan Approval; Vermont; Reasonably Available Control Technology for the 2008 and 2015 Ozone Standards

AGENCY: Environmental Protection Agency (EPA).

ACTION: Proposed rule.

SUMMARY: The Environmental Protection Agency (EPA) is proposing approval of a State Implementation Plan (SIP) revision submitted by the State of Vermont. The SIP revision consists of a demonstration that Vermont meets the requirements of reasonably available control technology (RACT) for the two precursors for ground-level ozone, oxides of nitrogen (NOX) and volatile organic compounds (VOCs), set forth by the Clean Air Act (CAA or Act) with respect to the 2008 and 2015 ozone National Ambient Air Quality Standards (NAAQSs or standards). This action is being taken in accordance with the Act.

DATES: Written comments must be received on or before September 3, 2019.

ADDRESSES: Submit your comments, identified by Docket ID No. EPA-R01-OAR-2019-0221 at https://www.regulations.gov, or via email to mackintosh.david@epa.gov. For comments submitted at Regulations.gov, follow the online instructions for submitting comments. Once submitted, comments cannot be edited or removed from Regulations.gov. For either manner of submission, the EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, please contact the person identified in the FOR FURTHER INFORMATION CONTACT section. For the full EPA public comment policy, information about CBI or multimedia submissions, and general guidance on making effective comments, please visit http://www.epa.gov/dockets/commenting-epa-dockets. Publicly available docket materials are available at https://www.regulations.gov or at the U.S. Environmental Protection Agency, EPA Region 1 Regional Office, Air and Radiation Division, Air Quality Branch, 5 Post Office Square—Suite 100, Boston, MA. EPA requests that if at all possible, you contact the contact listed in the FOR FURTHER INFORMATION CONTACT section to schedule your inspection. The Regional Office's official hours of business are Monday through Friday, 8:30 a.m. to 4:30 p.m., excluding legal holidays.

FOR FURTHER INFORMATION CONTACT: David L. Mackintosh, Air Quality Branch, U.S. Environmental Protection Agency, EPA Region 1, 5 Post Office Square—Suite 100, (Mail Code 05-2), Boston, MA 02109-3912, tel. 617-918-1584, email Mackintosh.David@epa.gov.

Table of Contents

I. Background

II. Summary of Vermont's SIP Revision

III. EPA's Evaluation of the Submittal

A. NOX RACT for Major Sources

B. Non-CTG VOC RACT for Major Sources

C. CTG VOC RACT

IV. Proposed Action

V. Incorporation by Reference

VI. Statutory and Executive Order Reviews

SUPPLEMENTARY INFORMATION: Throughout this document whenever “we,” “us,” or “our” is used, we mean EPA.

I. Background

Vermont is part of the Ozone Transport Region (OTR) under Section 184(a) of the CAA. Sections 182(b)(2) and 184 of the CAA require states with ozone nonattainment areas that are classified as moderate or above, as well as areas in the OTR, to submit a SIP revision requiring the implementation of reasonably available control technology (RACT) for sources covered by a control techniques guideline (CTG) and for all major sources. A CTG is a document issued by EPA which establishes a “presumptive norm” for RACT for a specific VOC source category. RACT is defined as the lowest emission limitation that a particular source is capable of meeting by the application of control technology that is reasonably available considering technological and economic feasibility.¹ The CTGs usually identify a particular control level which EPA recommends as being RACT. States are required to address RACT for the source categories covered by CTGs through adoption of rules as part of the SIP.

¹ See Memorandum from Roger Strelow, Assistant Administrator for Air and Waste Management, U.S. EPA, to Regional Administrators, U.S. EPA, “Guidance for Determining Acceptability of SIP Regulations in Non-Attainment Areas” (Dec. 9, 1976); see also 44 FR 53761, 53762 (September 17, 1979).

On October 5, 2006 (71 FR 58745), EPA issued four new CTGs, which applicable areas were required to address by October 5, 2007: Industrial Cleaning Solvents, Offset Lithographic Printing and Letterpress Printing; Flexible Package Printing; and Flat Wood Paneling Coatings. On October 9, 2007 (72 FR 57215), EPA issued three more CTGs, which applicable areas were required to address by October 9, 2008: Paper, Film, and Foil Coatings; Large Appliance Coatings; and Metal Furniture Coatings. On October 7, 2008 (73 FR 58841), EPA issued an additional four CTGs, which applicable areas were required to address by October 7, 2009: Miscellaneous Metal and Plastic Parts Coatings; Fiberglass Boat Manufacturing Materials; Miscellaneous Industrial Adhesives; and Automobile and Light-Duty Truck Assembly Coatings. Lastly, on Oct 27, 2016 (81 FR 74798), EPA issued the most recent CTG for the Oil and Natural Gas Industry, which applicable areas were required to address by October 27, 2018.

On March 27, 2008 (73 FR 16436), EPA revised the health-based NAAQS for ozone to 0.075 parts per million (ppm), averaged over an 8-hour timeframe. EPA determined that the revised 8-hour standard would be more protective of human health, especially with regard to children and adults who are active outdoors and individuals with a pre-existing respiratory diseases such as asthma.

On July 19, 2011 (76 FR 42560), EPA issued a Direct Final Rule Approving Vermont RACT for the 1997 8-Hour ozone NAAQS. In its approval, EPA conditionally approved permit conditions for Churchill Coatings Corporation and H.B.H. Prestain, Inc. into the Vermont SIP.

On March 6, 2015 (80 FR 12264), EPA published a final rule outlining RACT requirements and requiring states in the OTR to certify RACT requirements by July 20, 2014. This rule, referred to as the “2008 Ozone Implementation Rule,” contains a description of EPA's expectations for states with RACT obligations. The 2008 Ozone Implementation Rule gives states several options for meeting RACT requirements for the 2008 ozone standard. States may (1) establish new or more stringent rules that meet RACT control levels for the 2008 standard; (2) certify, where appropriate, that previously adopted RACT rules approved by EPA under a prior ozone standard represent adequate RACT control levels for the 2008 ozone NAAQS; or (3) submit a negative declaration in instances where there are no sources in the state covered by a specific CTG source category. States may use these options alone or in combination to demonstrate compliance with RACT requirements.

On October 26, 2015 (80 FR 65291), EPA revised the health-based NAAQS for ozone, setting it at 0.070 ppm averaged over an 8-hour time frame. On December 6, 2018 (83 FR 62998), EPA published a final rule that outlines the obligations for areas in nonattainment with the 2015 ozone standard, as well as obligations for areas in the OTR. This rule, referred to as the “2015 Ozone Implementation Rule,” requires states in the OTR to certify RACT requirements by August 3, 2020.

On February 3, 2017 (82 FR 9158), EPA published a final rule finding that Vermont, as well as 14 other states and the District of Columbia, had failed to submit SIP revisions in a timely manner to satisfy certain requirements for the 2008 ozone NAAQS. With respect to Vermont, EPA found that the state had failed to submit three required SIP elements: NOX RACT for Major Sources; Non-CTG VOC RACT for Major Sources; and CTG VOC RACT. Id. at 9162. This finding became effective March 6, 2017, and started a SIP sanctions clock, which required the missing SIP elements to be submitted and deemed complete before September 6, 2018. Id. at 9160-61.

II. Summary of Vermont's SIP Revision

On September 6, 2018, Vermont submitted a SIP revision to address its RACT requirements set forth by the CAA for the 2008 and 2015 8-hour ozone NAAQSs (i.e., RACT Certification). Also, on September 6, 2018, EPA determined that Vermont's SIP submittal was administratively and technically complete. This determination stopped the 18-month sanctions clock for all three of Vermont's outstanding RACT SIP submittal elements. Because the sanctions clock stopped on September 6, 2018, sanctions had no effect in the state of Vermont for the February 2017 finding of failure to submit (82 FR 9158).

Vermont's RACT Certification submittal is based on the fact that (1) all required RACT controls, both major sources and those subject to CTGs, are being implemented in Vermont and will be part of the Vermont SIP upon final approval of this EPA action; (2) previously approved controls, not being revised herein, continue to represent RACT for the 2008 and 2015 ozone NAAQS; and (3) Vermont has no applicable sources for 29 CTG categories for which negative declarations are described in Section III.

Specifically, Vermont's September 2018 SIP revision contains: A certification that Vermont has met all RACT requirements for the 2008 and 2015 8-hour ozone NAAQS with negative declarations for 29 CTG categories; the addition of Vermont Air Pollution Control Regulations (APCRs) 5-253.8 Industrial Adhesives, 5-253.9 Offset Lithographic and Letterpress Printing, and 5-253.17 Industrial Solvent Cleaning to the Vermont SIP; revisions to Vermont APCRs 5-253.12 Coating of Flat Wood Paneling and 5-253.13 Coating of Miscellaneous Metal and Plastic; revisions to single-source requirements for “Isovolta Inc. (Formerly U.S. Samica, Inc.) Operating Permit RACT provisions”, “Killington/Pico Ski Resort Partners, LLC. Operating Permit RACT provisions,” and “Okemo Limited Liability Company Operating Permit RACT provisions”; and withdrawal of the single-source requirements for “Churchill Coatings Corporation Operating Permit RACT conditions” and “H.B.H Prestain, Inc.”

III. EPA's Evaluation of the Submittal

A. NOX RACT for Major Sources

Section 182 of the CAA requires RACT be applied to any major existing stationary source in the OTR with the potential to emit 100 tons or greater per year of NOX. Vermont's NOX RACT regulation applies to all sources with potential NOX emissions of 100 tons per year, or greater, APCR 5-251(2)(a), unless they are already subject to a more stringent level of NOX control (i.e., new source review), id. 5-251(2)(c). Subsection 5-521(2)(a) does not set specific NOX emission limitations or technology standards, but rather requires that sources have RACT defined on a case-by-case basis by VT ANR. Such case-specific RACT determinations must then be approved by EPA as revisions to Vermont's SIP. In 2011 (76 FR 42560), EPA approved APCR 5-251(2) as meeting NOX RACT requirements for the 1997 ozone NAAQS. EPA proposes that APCR 5-251(2) continues to represent RACT for applicable major stationary sources of NOX in Vermont for the 2008 and 2015 ozone standards.

Vermont has determined that it has only five operating sources with the potential to emit greater than 100 tons per year of NOX, as described in Table 3a of Vermont's September 2018 SIP Revision. Of these five sources, only two are subject to NOX RACT under APCR 5-251(2)(a). The source-specific requirements for these two facilities, Killington/Pico Ski Resort Partners, LLC and Okemo Limited Liability Company, were last approved into the Vermont SIP by EPA on July 19, 2011 (76 FR 42560). The relevant NOX RACT requirements for these two facilities are included in this submittal and contain NOX emission limits that have been further reduced. EPA proposes to adopt the revisions into Vermont's SIP as RACT. The other three sources, Joseph C. McNeil Generating Station, OMYA, Inc. Vermont Marble Power Division, and Ryegate Power Station, are each subject to major new source review permitting under APCR 5-502, “Major Stationary Sources and Major Modifications,” and thus are subject to most stringent emission rate (MSER), which exceed, or are no less stringent than, RACT.

After reviewing existing stationary NOX sources in Vermont, the EPA agrees with Vermont's determination that requirements for major sources of NOX meet, or are more stringent than, RACT requirements. Herein, EPA proposes that the above controls represent RACT for these NOX sources in Vermont for the 2008 and 2015 ozone standards because no new control technologies are known to be reasonably available considering technological and economic feasibility for these sources since our last approval.

B. Non-CTG VOC RACT for Major Sources

Section 184(b)(2) of the CAA requires RACT be applied to any major existing stationary source with the potential to emit 50 tons or greater per year of VOCs. Vermont's APCR 5-253.20 applies to all sources with potential VOC emissions of 50 tons per year, or greater, that are not regulated under a CTG specific regulation. In 2011 (76 FR 42560), EPA approved APCR 5-253.20 as meeting RACT requirements for the 1997 ozone NAAQS. EPA proposes that APCR 5-253.20 continues to represent RACT for applicable major stationary sources of VOCs in Vermont for the 2008 and 2015 ozone standards.

Vermont has determined it has only five operating sources with the potential to emit greater than 50 tons per year of VOCs, as described in Table 2 of Vermont's September 2018 SIP Revision. Two of these sources (Ethan Allen Orleans and Ethan Allen Beecher Falls) are subject to the wood furniture CTG RACT in APCR 5-253.16, approved by EPA on July 19, 2011 (76 FR 42560). Two sources (Churchill Coatings Corporation and HBH Holdings LLC) were previously subject to source-specific RACT orders but are now subject to the revised Flat Wood Paneling CTG RACT in APCR 5-253.12 and being proposed to be adopted in to the VT SIP in this action (discussed later in the “CTG VOC RACT” section of this notice). Thus, Vermont requests the prior single source RACT determinations for these two facilities be withdrawn and regulation 5-253.12 Coating of Flat Wood Paneling now constitutes RACT in lieu of the previous source-specific RACT conditions.

The remaining single-source RACT order facility, Isovolta, Inc. (formerly US Samica Corporation), had previously been approved by EPA on April 9, 1997. This order was updated on January 6, 2006, and Vermont has submitted the relative portions of the single-source requirements with its September 2018 RACT submittal. The provisions being added to the SIP contain specific compliance assurance requirements, such as, pollution control device monitoring and function testing, plus general recordkeeping and reporting requirements, all of which are required as part of an approvable RACT control.

After reviewing existing stationary VOC sources in Vermont, the EPA agrees with Vermont's determination that the requirements for major sources of VOC meet RACT requirements. EPA proposes that APCR 5-253.20 and the one remaining source-specific determination represent RACT for major VOC sources in Vermont for the 2008 and 2015 ozone standard because no new control technologies are known to be reasonably available considering technological and economic feasibility for these sources since our last approval.

C. CTG VOC RACT

Vermont's submittal requests that EPA approve three APCRs for CTG VOC RACT in to the VT SIP: 5-253.8 Industrial Adhesives; 5-253.9 Offset Lithographic and Letterpress Printing; and 5-253.17 Industrial Solvent Cleaning. The submittal also requests that two APCRs for CTG VOC RACT currently in the SIP be replaced with revised APCRs that Vermont has since promulgated: 5-253.12 Coating of Flat Wood Paneling; and 5-253.13 Coating of Miscellaneous Metal and Plastic Parts. Vermont certifies that the remining VOC RACT rules, previously approved by EPA on September 19, 2011 (76 FR 42560), continue to represent RACT for the 2008 and 2015 ozone NAAQSs.

The addition of APCR 5-253.8 Industrial Adhesives to the VT SIP generally applies to any person in Vermont that uses or supplies industrial adhesive or adhesive primer, with certain exceptions noted in the rule. The new rule is consistent with the recommendations for RACT found in EPA's CTG for Miscellaneous Industrial Adhesives (EPA-453/R-08-005, September 2008). Applicable persons are required to use low-VOC adhesives and primers or limit their VOC emissions by using add-on control equipment with an overall control efficiency of 90%. The new regulation also specifies application methods, as well as work practices for waste and cleaning materials, to further limit VOC emissions from industrial adhesive activities.

The addition of APCR 5-253.9 Offset Lithographic and Letterpress Printing to the VT SIP applies to graphic arts operations that use the offset lithographic printing process. The new rule is consistent with the recommendations for RACT found in EPA's CTG for Offset Lithographic Printing and Letterpress Printing (EPA-453/R-06-002, September 2006). The threshold applicability consists of 15 lbs/day for fountain solutions and cleaning materials and 25 tons per year for heat-set dryers. Applicable sources are required to limit the VOC content of inks, coatings, adhesives, and cleaning solvents or use VOC pollution control devices. These sources are also required to follow work practices for material application, storage, spill cleanup, and containment as well as maintain records of the regulated materials used.

Vermont's APCR 5-253.12 Coating of Flat Wood Paneling was previously approved by EPA on April 22, 1998 (63 FR 19829). The revised rule applies to flat wood paneling coating sources that emit at least 3 tons per 12-month rolling period of VOC before consideration of controls. Flat wood paneling coatings means wood paneling products that are any interior, exterior or tileboard (class I hardboard) panel to which a protective, decorative, or functional material or layer has been applied. The revised rule now includes coating of clapboards, for which Vermont has several applicable facilities. The new rule is generally consistent EPA's CTG for Flat Wood Paneling Coatings (EPA-453/R-06-004, September 2006), with the exception of coating of certain solid wood exterior siding, discussed in more detail below. Applicable sources are required to limit VOC emissions by adding on a pollution control device with 90% efficiency or by limiting VOC content in coatings to either: 2.9 lbs of VOC per gallon of coating for solid wood exterior siding of cedar, hemlock, mahogany and redwood species at a stationary source whose actual emissions from all coating operations are less than 50 tons of VOCs per 12-month rolling period, or an emission limit of 2.1 lbs of VOC per gallon of coating for all other flat wood paneling operations. The rule also requires record keeping and work practices for handling VOC-containing coatings, thinners, cleaning materials, and coatings-related waste materials. The revised rule reduces VOC emissions by lowering the maximum VOC content of most coatings, compared to Vermont's previously-approved APCR 5-253.12 and source specific requirements for applicable facilities. Therefore, the revised rule is expected to achieve equivalent or greater emissions reductions. Thus, revising the SIP to incorporate the revised rule will not interfere with any applicable requirement concerning attainment and reasonable further progress or any other applicable requirement of the Act. See CAA § 110(l).

Vermont APCR 5-253.12 Coating of Flat Wood Paneling contains a transcription error whereby the metric equivalent of 2.9 lbs/gal is incorrectly stated as 325 grams/liter, when in fact the metric equivalent is 350 grams/liter. VT DEC confirmed in a letter to EPA dated June 28, 2019, that it is DEC's intention to limit solid wood exterior siding coatings, at facilities that emit less than 50 tons per year of VOCs, to 2.9 pounds/gallon and the metric equivalent 350 grams/liter. The discussion on page 3 of the “Vermont RACT SIP—Responsiveness Summary” further explains Vermont's intention for this category limit to be “350 grams/liter (2.9 lbs/gal).” Vermont set this exterior wood siding coating limit slightly higher than the EPA CTG recommendation of 2.1 lbs/gal based on: The limited number of impacted facilities (two); the relatively small size of the impacted operations (less than 50 tons per year of VOC coating emissions); this particular solid wood coating only constitutes a portion of the total VOC emissions at the impacted facilities; and the higher VOC content coating applied to solid wood is expected to last longer and, thus, reduce the need for additional coating applications. EPA agrees and proposes that for Vermont, the enforced limit of 350 grams/liter (2.9 lbs/gal) VOC content for solid wood exterior siding coatings at facilities where total VOC emissions from all coating lines is under 50 tons per year constitutes RACT.

Vermont's APCR 5-253.13 Coating of Miscellaneous Metal and Plastic Parts was previously approved by EPA on April 22, 1998 (63 FR 19829). The revised rule contains updated work practices, coating application methods, and recordkeeping requirements for all applicable facilities. While the rule lists multiple types of coating applications methods, other coating application methods capable of achieving a transfer efficiency equivalent to, or better than, that provided by high-volume low-pressure (HVLP) spray application may also be used. Additional control options permit equivalent emissions limits expressed in terms of mass of VOC per volume of solids as applied or the use of add-on controls capable of achieving an overall VOC efficiency of 90 percent. The new coating limits generally follow the recommendations in EPA's CTG for Miscellaneous Metal and Plastic Parts Coating (EPA-453/R-08-003, September 2008), with three exceptions: Extreme high gloss topcoat, other substrate antifoulant coating, and antifouling sealer/tie. For these three categories, Vermont reviewed industry data and determined that for purposes of functionality, cost, and VOC emissions, the higher limits adopted for these three coating categories constitute RACT. Vermont's approach is consistent with the EPA guidance memorandum entitled “Control Technique Guidelines for Miscellaneous Metal and Plastic Part Coatings—Industry Request for Reconsideration” from Stephen Page to Air Branch Chiefs, Regions I-X, dated June 1, 2010. Vermont's new VOC coating limits are also lower than most of the previously SIP-approved limits. Although some specialty coatings limits are higher than previous limits, since the general use coating limit is lower and these coatings are more frequently used, coupled with the fact that the revised rule's applicability is broader, the revised rule reduces VOC emissions and will not interfere with any applicable requirement concerning attainment and reasonable further progress or any other applicable requirement of the Act. See CAA § 110(l). This analysis is also consistent with the March 17, 2011, EPA guidance memorandum entitled “Approving SIP Revisions Addressing VOC RACT Requirements for Certain Coating Categories.”

The addition of Vermont's APCR 5-253.17 Industrial Solvent Cleaning to the Vermont SIP will add to Vermont's solvent cleaning requirements, which are currently in the Vermont SIP under APCR 5-253.14 Solvent Metal Cleaning, which was last approved by EPA on April 22, 1998 (63 FR 19825). The added rule applies to industries that use organic solvent for cleaning unit operations such as mixing vessels (tanks), spray booths, and parts cleaners, who purchase for use at the premises at least 855 gallons of cleaning solvents, in aggregate, per rolling 12-month period. EPA proposes the purchase-for-use threshold of 855 gallons per rolling 12-month period is commensurate with the EPA recommended CTG applicability of 15 pounds per day of actual VOC emissions based on a solvent density of 7.36 pounds per gallon and up to 55 gallons of solvent used for exempt uses. The cleaning activities include actions such as wiping, flushing, and spraying. Vermont's Industrial Cleaning Solvents rule is consistent with the recommendations for RACT found in EPA's CTG for Industrial Cleaning Solvents (EPA-453/R-06-001, September 2006). Applicable sources are required to limit VOC emissions by using cleaning solvents that contain no more than 50 g VOC/l or have a composite vapor pressure of 8.0 millimeters of mercury (mm Hg) at 20 degrees Celsius or by using add-on controls capable of achieving an overall VOC reduction efficiency of 85%. The work practices in the rule minimize VOC emissions during the use, handling, storage, and disposal of cleaning solvents. The added rule reduces VOC emissions by lowering the VOC content of most solvent, or by applying add-on controls, and thus satisfies the anti-back sliding requirements in Section 110(l) of the CAA.

Vermont has determined that there are no applicable stationary sources of VOC in Vermont for 29 CTG categories: (1) Aerospace; (2) Auto and Light-Duty Truck Assembly Coatings (2008); (3) Equipment Leaks from Natural Gas/Gasoline Processing Plants; (4) Fiberglass Boat Manufacturing Materials (2008); (5) Flexible Packaging Printing Materials (2006); (6) Fugitive Emissions from Synthetic Organic Chemical Polymer and Resin Manufacturing; Equipment; (7) Graphic Arts—Rotogravure and Flexography; (8) Large Appliance Coatings (2007); (9) Large Petroleum Dry Cleaners; (10) Leaks from Petroleum Refinery Equipment; (11) Manufacture of High-Density Polyethylene, Polypropylene, and Polystyrene Resins; (12) Manufacture of Pneumatic Rubber Tires; (13) Manufacture of Synthesized Pharmaceutical Products; (14) Metal Furniture Coatings (2007); (15) Oil and Natural Gas Industry (2016); (16) Paper, Film, and Foil Coatings (2007); (17) Petroleum Liquid Storage in External Floating Roof Tanks; (18) Refinery Vacuum Producing Systems, Wastewater Separators, and Process Unit Turnarounds; (19) SOCMI Air Oxidation Processes; (20) SOCMI Distillation and Reactor Processes; (21) Shipbuilding/repair; (22) Surface Coating for Insulation of Magnet Wire; (23) Surface Coating of Automobiles and Light-Duty Trucks; (24) Surface Coating of Cans; (25) Surface Coating of Coils; (26) Surface Coating of Fabrics; (27) Surface Coating of Large Appliances; (28) Surface Coating of Metal Furniture; and (29) Surface Coating of Paper. These negative declarations mean that Vermont has no applicable stationary sources of VOC that are covered by these CTGs.

EPA has evaluated Vermont's CTG VOC regulations, which the state certifies as meeting RACT for the 2008 and 2015 ozone standards, and finds that they are sufficiently consistent with recommendations in the respective EPA CTGs and are based on currently available technologically and economically feasible controls. Therefore, EPA proposes that the regulations being added and revised in this action, along with the past approved VOC CTG regulations, represent RACT in Vermont for the 2008 and 2015 ozone standard.

IV. Proposed Action

EPA is proposing to approve Vermont's SIP revision as meeting the State's RACT obligations for the 2008 and 2015 8-hour ozone NAAQSs as set forth by sections 182(b) and 184(b)(2) of the CAA, and to add “State Implementation Plan Revision Supporting Compliance with Requirements for Reasonably Available Control Technology (RACT) Under the 2008 and 2015 8-Hour ozone National Ambient Air Quality Standards, Final Submittal, September 6, 2018” to the Vermont SIP. EPA is proposing to approve the addition of Vermont APCR 5-253.8 Industrial Adhesives, 5-253.9 Offset Lithographic and Letterpress Printing, and 5-253.17 Industrial Solvent Cleaning in to the Vermont SIP. EPA is proposing to revise APCR 5-253.12 Coating of Flat Wood Paneling and 5-253.13 Coating of Miscellaneous Metal and Plastic Parts currently in the Vermont SIP. EPA is also proposing to revise the single-source requirements for “Isovolta Inc. (Formerly U.S. Samica, Inc.) Operating Permit RACT provisions,” “Killington/Pico Ski Resort Partners, LLC. Operating Permit RACT provisions,” and “Okemo Limited Liability Company Operating Permit RACT provisions” currently in the Vermont SIP. EPA is proposing to withdraw the single-source requirements for “Churchill Coatings Corporation Operating Permit RACT conditions” and “H.B.H Prestain, Inc. Operating Permit RACT provisions” from the Vermont SIP. Lastly, EPA is proposing to convert our July 2011 conditional approval of RACT with respect to the 1997 ozone standard to a full approval because the proposed addition of APCR 5-253.12 Coating of Flat Wood Paneling will constitute RACT in lieu of the previous source-specific RACT conditions for Churchill Coatings Corporation and H.B.H. Prestain, Inc. EPA is soliciting public comments on the issues discussed in this notice or on other relevant matters. These comments will be considered before taking final action. Interested parties may participate in the Federal rulemaking procedure by submitting written comments to this proposed rule by following the instructions listed in the ADDRESSES section of this Federal Register.

V. Incorporation by Reference

In this document, EPA is proposing to amend regulatory text that includes incorporation by reference. As described in the proposed action above, EPA is proposing to add and revise provisions of the Vermont APCR at 40 CFR 52.2370(c), “EPA approved regulations” in the Vermont State Implementation Plan, which is incorporated by reference in accordance with the requirements of 1 CFR part 51. Also in this document, as described in the proposed action above, EPA is proposing to revise and remove provisions of the EPA-approved Vermont source specific requirements at 40 CFR 52.2370(d), “EPA-approved State Source specific requirements” in the Vermont State Implementation Plan, which is incorporated by reference in accordance with the requirements of 1 CFR part 51. The EPA has made, and will continue to make, these documents generally available through https://www.regulations.gov and at the EPA Region 1 Office (please contact the person identified in the FOR FURTHER INFORMATION CONTACT section of this preamble for more information).

VI. Statutory and Executive Order Reviews

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this proposed action merely approves state law as meeting Federal requirements and does not impose additional requirements beyond those imposed by state law. For that reason, this proposed action:

• Is not a significant regulatory action subject to review by the Office of Management and Budget under Executive Orders12866 (58 FR 51735, October 4, 1993) and 13563 (76 FR 3821, January 21, 2011);

• Is not expected to be an Executive Order 13771 regulatory action because this action is not significant under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

List of Subjects in 40 CFR Part 52

Environmental protection, Air pollution control, Incorporation by reference, Intergovernmental relations, Nitrogen dioxide, ozone, Reporting and recordkeeping requirements, Volatile organic compounds.

Dated: July 23, 2019.
Deborah A. Szaro,
Acting Regional Administrator, EPA Region 1.

[FR Doc. 2019-16204 Filed 8-1-19; 8:45 am]

BILLING CODE 6560-50-P